DEPARTMENT OF ENERGY

Federal Energy Regulatory Commission

Combined Notice of Filings #1

Take notice that the Commission received the following electric corporate filings:

Docket Numbers: EC14-24-000.

Applicants: Steele Flats Wind Project, LLC, Tuscola Wind II, LLC.

Description: Application for Authorization under Section 203 of the Federal Power Act and Request for Expedited Action of Steele Flats Wind Project, LLC, et al.

Filed Date: 11/6/13.

Accession Number: 20131106-5165.

Comments Due: 5 p.m. ET 11/27/13.

Docket Numbers: EC14-25-000.

Applicants: CPV Shore, LLC.

Description: CPV Shore, LLC's Section 203 Application for Disposition of Jurisdictional Facilities.

Filed Date: 11/7/13.

Accession Number: 20131107-5043.

Comments Due: 5 p.m. ET 11/29/13.

Take notice that the Commission received the following electric rate filings:

Docket Numbers: ER10-1818-004; ER10-1819-005; ER10-1820-007; ER10-1817-005.

Applicants: Public Service Company of Colorado.

Description: Public Service Company of Colorado submits additional information related to the Updated Market Power Analysis for the Northwest Region.

Filed Date: 11/7/13.

Accession Number: 20131107-5054.

Comments Due: 5 p.m. ET 11/29/13.

Docket Numbers: ER12-2274-003.

Applicants: Public Service Electric and Gas Company, PJM Interconnection, L.L.C.

Description: Public Service Electric and Gas Company submits PSE&G submits compliance filing per 8/30/2013 Order in ER12-2274 to be effective 9/17/2012.

Filed Date: 11/6/13.

Accession Number: 20131106-5164.

Comments Due: 5 p.m. ET 11/27/13.

Docket Numbers: ER14-340-000.

Applicants: Southwestern Public Service Company.

Description: 11-6-13_RS117 SPS-RCEC Op Proc 1 to be effective 11/4/2013.

Filed Date: 11/6/13.

Accession Number: 20131106-5112.

Comments Due: 5 p.m. ET 11/27/13.

Docket Numbers: ER14-341-000.

Applicants: PJM Interconnection, L.L.C.

Description: PJM Interconnection, L.L.C. submits Queue Position Y2-003; Original Service Agreement No. 3654 to be effective 10/8/2013.

Filed Date: 11/7/13.

Accession Number: 20131107-5012.

Comments Due: 5 p.m. ET 11/29/13.

Docket Numbers: ER14-342-000.

Applicants: Southern California Edison Company.

Description: Southern California Edison Company submits Amendment to Extend Terms of Eldorado Co-Tenancy and Communication Agreement to be effective 1/1/2014.

Filed Date: 11/7/13.

Accession Number: 20131107-5048.

Comments Due: 5 p.m. ET 11/29/13.

Take notice that the Commission received the following qualifying facility filings:

Docket Numbers: QF12-267-000.

Applicants: Holyoke Solar, LLC.

Description: Holyoke Solar, LLC resubmits February 20, 2013 Refund Report as non-privileged document.

Filed Date: 11/6/13.

Accession Number: 20131106-5168.

Comments Due: 5 p.m. ET 11/27/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2013.
Nathaniel J. Davis, Sr.,
Deputy Secretary.

[FR Doc. 2013-27574 Filed 11-18-13; 8:45 am]

BILLING CODE 6717-01-P